DEPARTMENT OF COMMERCE

Foreign-Trade Zones Board

[S-3-2013]

Foreign-Trade Zone 68—El Paso, TX, Application for Subzone, Expeditors International of Washington, Inc., El Paso, TX

An application has been submitted to the Foreign-Trade Zones Board (the Board) by the City of El Paso, grantee of FTZ 68, requesting special-purpose subzone status for the facilities of Expeditors International of Washington, Inc., located in El Paso, Texas. The application was submitted pursuant to the provisions of the Foreign-Trade Zones Act, as amended (19 U.S.C. 81a-81u), and the regulations of the Board (15 CFR part 400). It was formally docketed on January 7, 2013.

The proposed subzone would consist of the following sites: Site 1 (2.94 acres)—1450 Pullman Drive, El Paso; and, Site 2 (4.02 acres)—1313 Don Haskins Drive, El Paso. No authorization for production activity has been requested at this time. The proposed subzone would be subject to the existing activation limit of FTZ 68.

In accordance with the Board's regulations, Camille Evans of the FTZ Staff is designated examiner to review the application and make recommendations to the Executive Secretary.

Public comment is invited from interested parties. Submissions shall be addressed to the Board's Executive Secretary at the address below. The closing period for their receipt is February 27, 2013. Rebuttal comments in response to material submitted during the foregoing period may be submitted during the subsequent 15-day period to March 14, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Camille Evans at Camille.Evans@trade.gov or (202) 482-2350.

Dated: January 7, 2013.
Andrew McGilvray,
Executive Secretary.

[FR Doc. 2013-01034 Filed 1-17-13; 8:45 am]

BILLING CODE P